FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 012360-001.

Agreement Name: “K” Line/Volkswagen Konzernlogistik GmbH & Co. OHG Space Charter Agreement.

Parties: Kawasaki Kisen Kaisha, Ltd. and Volkswagen Konzernlogistik GmbH & Co. OHG.

Filing Party: John Meade; “K” Line America.

Synopsis: The amendment removes joint negotiation authority for terminal services.

Proposed Effective Date: 7/16/2021.

Location: https://www2.fmc.gov/FMC.Agreements.Web/Public/AgreementHistory/53.

Agreement No.: 012322-001.

Agreement Name: TOKO Line/NYK Bulk & Projects Space Charter and Cooperative Working Agreement.

Parties: NYK Bulk & Project Carriers Ltd. and TOKO Kaiun Kaisha, Ltd.

Filing Party: Rebecca Fenneman; Jeffrey/Fenneman Law and Strategy PLLC.

Synopsis: The amendment corrects TOKO's address and removes all authority to jointly negotiate or procure terminal services in the United States.

Proposed Effective Date: 7/16/2021.

Location: https://www2.fmc.gov/FMC.Agreements.Web/Public/AgreementHistory/15.

Agreement No.: 012305-001.

Agreement Name: Siem Car Carriers AS/Nippon Yusen Kaisha Space Charter Agreement.

Parties: Siem Car Carriers AS and Nippon Yusen Kaisha.

Filing Party: Ashley Craig; Venable LLP.

Synopsis: The amendment updates Article 5.3 of the Agreement to remove joint procurement and joint negotiation authority.

Proposed Effective Date: 7/16/2021.

Location: https://www2.fmc.gov/FMC.Agreements.Web/Public/AgreementHistory/175.

Agreement No.: 201247-001.

Agreement Name: NMCC/KYOWA Space Charter Agreement.

Parties: Nissan Motor Car Carrier Co., Ltd. and Kyowa Shipping Co., Ltd.

Filing Party: Rebecca Fenneman; Jeffrey/Fenneman Law and Strategy PLLC.

Synopsis: The amendment removes all authority to jointly negotiate or procure terminal services in the United States.

Proposed Effective Date: 7/19/2021.

Location: https://www2.fmc.gov/FMC.Agreements.Web/Public/AgreementHistory/8147.

Agreement No.: 012318-001.

Agreement Name: MOL/Kyowa Shipping Co., Ltd. Space Charter Agreement.

Parties: Mitsui O.S.K. Lines, Ltd. and Kyowa Shipping Co., Ltd.

Filing Party: Rebecca Fenneman; Jeffrey/Fenneman Law and Strategy PLLC.

Synopsis: The amendment removes all authority to jointly negotiate or procure terminal services in the United States.

Proposed Effective Date: 7/19/2021.

Location: https://www2.fmc.gov/FMC.Agreements.Web/Public/AgreementHistory/190.

Agreement No.: 012450-001.

Agreement Name: Hoegh Autoliners and NYK Space Charter Agreement.

Parties: Hoegh Autoliners AS and Nippon Yusen Kaisha.

Filing Party: Kristen Chung; NYK Line (North America) Inc.

Synopsis: The amendment removes all authority to jointly negotiate or procure terminal services in the United States.

Proposed Effective Date: 7/19/2021.

Location: https://www2.fmc.gov/FMC.Agreements.Web/Public/AgreementHistory/1931.

Agreement No.: 201326-001.

Agreement Name: Sallaum Lines/NYK Space Charter Agreement.

Parties: Sallaum Lines Switzerland SA and Nippon Yusen Kaisha.

Filing Party: Kristen Chung; NYK Line (North America) Inc.

Synopsis: This amendment removes all authority to jointly negotiate or procure terminal services in the United States and updates the names of the parties.

Proposed Effective Date: 7/19/2021.

Location: https://www2.fmc.gov/FMC.Agreements.Web/Public/AgreementHistory/26450.

Agreement No.: 012422-001.

Agreement Name: Liberty Global Logistics/NYK Space Charter Agreement.

Parties: Liberty Global Logistics LLC and Nippon Yusen Kaisha.

Filing Party: Kristen Chung; NYK Line (North America) Inc.

Synopsis: The amendment removes all authority to jointly negotiate or procure terminal services in the United States.

Proposed Effective Date: 7/19/2021.

Location: https://www2.fmc.gov/FMC.Agreements.Web/Public/AgreementHistory/1893.

Agreement No.: 012423-001.

Agreement Name: Glovis/NYK Space Charter Agreement.

Parties: Hyundai Glovis Co., Ltd. and Nippon Yusen Kaisha.

Filing Party: Kristen Chung; NYK Line (North America) Inc.

Synopsis: The amendment removes all authority to jointly negotiate or procure terminal services in the United States.

Proposed Effective Date: 7/20/2021.

Location: https://www2.fmc.gov/FMC.Agreements.Web/Public/AgreementHistory/1894.

Agreement No.: 012313-001.

Agreement Name: NYK/EUKOR North America/Caribbean and Central America Space Charter Agreement.

Parties: Nippon Yusen Kaisha and EUKOR Car Carriers, Inc.

Filing Party: Kristen Chung; NYK Line (North America) Inc.

Synopsis: The amendment removes all authority to jointly negotiate or procure terminal services in the United States.

Proposed Effective Date: 7/21/2021.

Location: https://www2.fmc.gov/FMC.Agreements.Web/Public/AgreementHistory/186.

Agreement No.: 201298-001.

Agreement Name: CMA CGM/COSCO SHIPPING China-U.S. West Coast Service Slot Charter Agreement.

Parties: CMA CGM S.A. and COSCO SHIPPING Lines Co., Ltd.

Filing Party: Robert Magovern; Cozen O'Connor.

Synopsis: The amendment revises Articles 1, 5, and 8 of the Agreement to update the respective services on which the parties will exchange space under the Agreement.

Proposed Effective Date: 7/21/2021.

Location: https://www2.fmc.gov/FMC.Agreements.Web/Public/AgreementHistory/21398.

Agreement No.: 012227-001.

Agreement Name: NYK/EUKOR North America/Far East Space Charter Agreement.

Parties: Nippon Yusen Kaisha and EUKOR Car Carriers, Inc.

Filing Party: Kristen Chung; NYK Line (North America) Inc.

Synopsis: The amendment removes all authority to jointly negotiate or procure terminal services in the United States.

Proposed Effective Date: 7/21/2021.

Location: https://www2.fmc.gov/FMC.Agreements.Web/Public/AgreementHistory/276.

Dated: July 23, 2021.
Rachel E. Dickon,
Secretary.

[FR Doc. 2021-16090 Filed 7-27-21; 8:45 am]

BILLING CODE P